DEPARTMENT OF ENERGY

Federal Energy Regulatory Commission

Combined Notice of Filings #1

Take notice that the Commission received the following electric corporate filings:

Docket Numbers: EC18-116-000.

Applicants: International Transmission Company.

Description: Response of International Transmission Company to September 19, 2018 Deficiency Letter.

Filed Date: 10/9/18.

Accession Number: 20181009-5340.

Comments Due: 5 p.m. ET 10/30/18.

Docket Numbers: EC19-8-000.

Applicants: American Electric Power Service Corporation, AEP Ohio Transmission Company, Inc.

Description: Joint Application for Authorization Under Section 203 of the Federal Power Act of American Electric Power Service Corporation, on behalf of affiliate AEP Ohio Transmission Company, Inc.

Filed Date: 10/10/18.

Accession Number: 20181010-5136.

Comments Due: 5 p.m. ET 10/31/18.

Take notice that the Commission received the following exempt wholesale generator filings:

Docket Numbers: EG19-10-000.

Applicants: North Rosamond Solar, LLC.

Description: Notice of Self-Certification of Exempt Wholesale Generator Status under EG19-10.

Filed Date: 10/11/18.

Accession Number: 20181011-5120.

Comments Due: 5 p.m. ET 11/1/18.

Take notice that the Commission received the following electric rate filings:

Docket Numbers: ER10-2414-009.

Applicants: Old Trail Wind Farm, LLC.

Description: Notice of Non-Material Change in Status of Old Trail Wind Farm, LLC.

Filed Date: 10/9/18.

Accession Number: 20181009-5337.

Comments Due: 5 p.m. ET 10/30/18.

Docket Numbers: ER10-2434-007; ER10-2436-007; ER10-2467-007; ER17-1666-003.

Applicants: Fenton Power Partners I, LLC.

Description: Supplement to June 27, 2018 Triennial Market Power Update for the Central Region of the EDFR Sellers.

Filed Date: 10/11/18.

Accession Number: 20181011-5107.

Comments Due: 5 p.m. ET 11/1/18.

Docket Numbers: ER10-3310-013; ER18-83 001.

Applicants: New Harquahala Generating Company, LLC, CXA La Paloma, LLC.

Description: Notice of Non-Material Change in Status of the Beal Entities.

Filed Date: 10/9/18.

Accession Number: 20181009-5339.

Comments Due: 5 p.m. ET 10/30/18.

Docket Numbers: ER17-1666-004; ER17-2258 002.

Applicants: Red Pine Wind Project, LLC, Rock Falls Wind Farm LLC.

Description: Notice of Non-Material Change in Status of Red Pine Wind Project, LLC, et al.

Filed Date: 10/10/18.

Accession Number: 20181010-5145.

Comments Due: 5 p.m. ET 10/31/18.

Docket Numbers: ER19-85-000.

Applicants: PJM Interconnection, L.L.C.

Description: § 205(d) Rate Filing: Original ISA SA No. 5124 and CSA SA No. 5125; Queue No. AB1-006 to be effective 9/10/2018.

Filed Date: 10/10/18.

Accession Number: 20181010-5120.

Comments Due: 5 p.m. ET 10/31/18.

Docket Numbers: ER19-86-000.

Applicants: Arizona Public Service Company.

Description: § 205(d) Rate Filing: Rate Schedule No. 217, Exhibit B Revisions to be effective 12/15/2018.

Filed Date: 10/11/18.

Accession Number: 20181011-5085.

Comments Due: 5 p.m. ET 11/1/18.

Docket Numbers: ER19-87-000.

Applicants: Midcontinent Independent System Operator, Inc., ALLETE, Inc.

Description: § 205(d) Rate Filing: 2018-10-11_SA 3185 MP-GRE T-T (Deer River) to be effective 10/12/2018.

Filed Date: 10/11/18.

Accession Number: 20181011-5099.

Comments Due: 5 p.m. ET 11/1/18.

Docket Numbers: ER19-88-000.

Applicants: Midcontinent Independent System Operator, Inc., ALLETE, Inc.

Description: § 205(d) Rate Filing: 2018-10-11_SA 3186 MP-GRE T-T (Zemple) to be effective 10/12/2018.

Filed Date: 10/11/18.

Accession Number: 20181011-5103.

Comments Due: 5 p.m. ET 11/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2018.
Nathaniel J. Davis, Sr.,
Deputy Secretary.

[FR Doc. 2018-22624 Filed 10-16-18; 8:45 am]

BILLING CODE 6717-01-P